DEPARTMENT OF COMMERCE

National Oceanic and Atmospheric Administration

Agency Information Collection Activities; Submission to the Office of Management and Budget (OMB) for Review and Approval; Comment Request; Tornado Watch/Warning Post-Event Evaluation

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on February 9th, 2024 during a 60-day comment period. This notice allows for an additional 30 days for public comments.

Agency: National Oceanic and Atmospheric Administration, Commerce.

Title: Tornado Watch/Warning Post-Event Evaluation.

OMB Control Number: 0648-0797.

Form Number(s): None.

Type of Request: Regular submission: revision.

Number of Respondents: Surveys: 1,200, Interviews: 50.

Average Hours per Response: Surveys: 5-10 minutes, Interviews: 15-30 minutes.

Total Annual Burden Hours: Survey: 200 hours, Interviews: 25 hours.

Needs and Uses: Each year over 1000 tornadoes affect communities across the United States, yet little is known about how individuals receive, interpret, and respond to information from NOAA relating to this hazard. In fact, only a small sample of tornadoes ever receive study, and most often those are only the most violent tornadoes. No generalizable, or even relatively large-scale information on tornado forecast and warning response after real-world events exists. The NOAA National Weather Service (NWS) and National Severe Storms Laboratory (NSSL) designed the data collection instrument to allow for more routine collection of this information. Respondents include members of the United States public who have been in or near a tornado, received a tornado warning, or were in or near a strong storm that made them concerned about tornadoes. They answer questions about the ways they received, understood, and responded to information about the event, including NWS watch and warning information. This survey is delivered through a web application hosted by NSSL called Tornado Tales, available online at https://inside.nssl.noaa.gov/tornado-tales/.

After approval of our initial data collection instrument (that shown on the website), the OU Cooperative Institute for Severe and High-Impact Weather Research and Operations (CIWRO) and NOAA NSSL Behavioral Insights Unit carried out post-event data collections for multiple tornado events, validating the questions and identifying issues for improvement. This fieldwork led to several needed improvements, including the addition of questions about the event more broadly, changing some response types, rephrasing some questions that were interpreted too broadly, and including questions about efficacy and the availability of forecast information to individuals. While the revisions have added questions to the survey, their improved clarity should allow for faster response times per question. We estimate the time to complete the survey is five to ten minutes on average. Subject recruitment will primarily be done by NOAA NSSL and its partners advertising the survey via websites and social media outlets. In addition to these efforts, there is also the possibility that during post-storm damage assessment activities NWS forecasters may direct impacted individuals to the Tornado Tales website.

In addition to the changes to the survey instrument, researchers at NOAA NSSL and at the OU CIWRO Behavioral Insights Unit would like to conduct interviews with emergency managers, broadcast meteorologists, and members of the public after certain tornado events. These more in-depth interviews will collect similar information to the survey instrument from members of the public, broadcast meteorologists, and Emergency Management personnel who recently experienced a tornado event. The interviews will walk respondents through a timeline of events leading up to the tornado event. Researchers will use a skip-logic approach, meaning participants will only answer questions about the time periods relevant to their personal experience. The purpose of these interviews will be to more thoroughly explore how residents, broadcast meteorologists, and Emergency Managers received, understood, and responded to tornado forecasts and warnings. Given the in-person nature of these interviews, we expect them to take between 15 and 30 minutes on average.

Affected Public: Individuals or households.

Frequency: On occasion.

Respondent's Obligation: Voluntary.

Legal Authority: N/A.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0797.

Sheleen Dumas,
Department PRA Clearance Officer, Office of the Under Secretary for Economic Affairs, Commerce Department.

[FR Doc. 2024-09801 Filed 5-3-24; 8:45 am]

BILLING CODE 3510-KE-P